DEPARTMENT OF DEFENSE

Office of the Secretary

[Docket ID: DoD-2014-OS-0155]

Privacy Act of 1974; System of Records

AGENCY: Defense Logistics Agency, DoD.

ACTION: Notice to alter a System of Records.

SUMMARY: The Defense Logistics Agency proposes to alter a system of records notice, S500.55, entitled “Information Technology Access and Control Records” in its inventory of record systems subject to the Privacy Act of 1974, as amended.

DATES: Comments will be accepted on or before December 19, 2014. This proposed action will be effective on the day following the end of the comment period unless comments are received which result in a contrary determination.

ADDRESSES: You may submit comments, identified by docket number and title, by any of the following methods:

• Federal Rulemaking Portal: http://www.regulations.gov. Follow the instructions for submitting comments.

• Mail: Federal Docket Management System Office, 4800 Mark Center Drive, East Tower, 2nd Floor, Suite 02G09, Alexandria, VA 22350-3100.

Instructions: All submissions received must include the agency name and docket number for this Federal Register document. The general policy for comments and other submissions from members of the public is to make these submissions available for public viewing on the Internet at http://www.regulations.gov as they are received without change, including any personal identifiers or contact information.

FOR FURTHER INFORMATION CONTACT: John Lockwood, AMPS Program Manager, Defense Logistics Agency, Headquarters McNamara Complex 8725 John J. Kingman Rd, Suite 3533, Fort Belvoir, VA 22060.

SUPPLEMENTARY INFORMATION: The Office of the Secretary of Defense notices for systems of records subject to the Privacy Act of 1974, as amended, have been published in the Federal Register and are available from the address in FOR FURTHER INFORMATION CONTACT or from the Defense Privacy and Civil Liberties Office Web site at http://dpclo.defense.gov/. The proposed system report, as required by the Privacy Act of 1974, as amended, was submitted on November 12, 2014, to the House Committee on Oversight and Government Reform, the Senate Committee on Governmental Affairs, and the Office of Management and Budget (OMB) pursuant to paragraph 4c of Appendix I to OMB Circular No. A-130, “Federal Agency Responsibilities for Maintaining Records About Individuals,” dated February 8, 1996 (February 20, 1996, 61 FR 6427).

Dated: November 14, 2014.
Aaron Siegel,
Alternate OSD Federal Register Liaison Officer, Department of Defense.

S500.55

System Name:

Information Technology Access and Control Records (March 5, 2013, 78 FR 14283).

Changes:

* * * * *

Categories of Records in the System:

Delete entry and replace with “System contains documents relating to requests for and grants of access to DLA computer networks, systems, or databases. The records contain the individual's name; date of birth, Electronic Data Interchange Personal Identifier (EDIPI) (DoD Identification Number), social security number; citizenship; physical and electronic addresses; work telephone numbers; office symbol; contractor/employee status; computer logon addresses, passwords, and user identification codes; type of access/permissions required; verification of need to know; dates of mandatory information assurance awareness training; and security clearance data. The system also captures details about programs, databases, functions, and sites accessed and/or used; dates and times of use; and information products created, received, or altered during use. The records may also contain details about access or functionality problems telephoned in for technical support along with resolution. For individuals who telecommute from home or a telework center, the records may contain the electronic address and telephone number at that location. For contractors, the system also contains the company name, contract number, and contract expiration date.”

* * * * *

[FR Doc. 2014-27389 Filed 11-18-14; 8:45 am]

BILLING CODE 5001-06-P